DEPARTMENT OF THE INTERIOR

Bureau of Land Management

[LLCAC00000 L07770900 XZ0000]

Notice of Public Meeting of the Central California Resource Advisory Council

AGENCY: Bureau of Land Management, Interior.

ACTION: Notice of public meeting.

SUMMARY: In accordance with the Federal Land Policy and Management Act and the Federal Advisory Committee Act of 1972, the U.S. Department of the Interior, Bureau of Land Management (BLM) Central California Resource Advisory Council (RAC) will meet as indicated below.

DATES: The meeting will be held Friday, April 9, at the BLM Bakersfield Field Office, 3801 Pegasus Drive, Bakersfield, CA, beginning at 9 a.m. The RAC Off-Highway Vehicle Subgroup will meet briefly before the full RAC meeting to vote on whether to present screening criteria for land acquisitions for off-highway vehicle use to the full RAC. Time for public comment is reserved from 1 p.m. to 2 p.m.

On April 10, RAC members will participate in the National Landscape Conservation System 10th Anniversary event at Carrizo Plain National Monument.

FOR FURTHER INFORMATION CONTACT: BLM Central California District Manager Kathy Hardy, (916) 978-4626; or BLM Public Affairs Officer David Christy, (916) 941-3146.

SUPPLEMENTARY INFORMATION: The 12-member council advises the Secretary of the Interior, through the BLM, on a variety of planning and management issues associated with public land management in Central California. At this meeting, agenda topics will include an update on the resource management plans for the Carrizo Plain National Monument and the BLM Bakersfield Field Office. Additional ongoing business will be discussed by the council. All meetings are open to the public. Members of the public may present written comments to the council. Each formal council meeting will have time allocated for public comments. Depending on the number of persons wishing to speak, and the time available, the time for individual comments may be limited. The meeting and Carrizo event are open to the public, but reservations are required for the Carrizo event. Individuals who plan to attend and need special assistance, such as sign language interpretation and other reasonable accommodations, should contact the BLM as provided above.

Dated: February 18, 2010.
David Christy,
Public Affairs Officer.

[FR Doc. 2010-3858 Filed 2-24-10; 8:45 am]

BILLING CODE 4310-40-P